NATIONAL SCIENCE FOUNDATION

Advisory Committee for Cyberinfrastructure; Notice of Meeting

In accordance with the Federal Advisory Committee Act (Pub. L. 92-463, as amended), the National Science Foundation announces the following meeting:

NAME AND COMMITTEE CODE: Advisory Committee for Cyberinfrastructure (25150).

DATE AND TIME: Oct 11, 2016; 9:00 a.m.-5:15 p.m.; Oct 12, 2016; 8:30 a.m.-1:30 p.m.

PLACE: National Science Foundation, 4201 Wilson Blvd., Stafford I—Room 1235, Arlington, VA 22230.

TYPE OF MEETING: Open.

CONTACT PERSON: Amy Friedlander, CISE, Division of Advanced Cyberinfrastructure, National Science Foundation, 4201 Wilson Blvd., Suite 1145, Arlington, VA 22230; Telephone: 703-292-8970.

MINUTES: May be obtained from the contact person listed above.

PURPOSE OF MEETING: To advise NSF on the impact of its policies, programs and activities in the ACI community. To provide advice to the Director/NSF on issues related to long-range planning.

AGENDA: Updates on NSF wide ACI activities.

Dated: August 26, 2016.
Crystal Robinson,
Committee Management Officer.

[FR Doc. 2016-21043 Filed 8-31-16; 8:45 am]

BILLING CODE 7555-01-P